DEPARTMENT OF HOMELAND SECURITY

Coast Guard

[USCG-2006-25662]

National Maritime Security Advisory Committee

AGENCY: Coast Guard, DHS.

ACTION: Notice of meeting.

SUMMARY: The National Maritime Security Advisory Committee (NMSAC) will hold a teleconference meeting on September 13, 2006, to discuss the Draft Report to Congress regarding NMSAC's recommendation on termination of the committee on the statutory termination date. This notice announces the date, time, and location for the teleconference meeting of the NMSAC.

DATES: The NMSAC will meet via teleconference on Wednesday, September 13, 2006, from 1 p.m. to 2:30 p.m. EDT. The meeting may close early if all business is completed before the scheduled time. This notice is being given late because of recent decisions about the necessity of this teleconference and the availability of someone to preside over the meeting. Written material and requests to make oral presentations at the September 13th meeting should reach the Coast Guard on or before September 7, 2006.

ADDRESSES: The NMSAC teleconference meeting will be held in room 5222, U.S. Coast Guard Headquarters, 2100 Second St., SW., Washington, DC. Send written material and requests to make oral presentations to Mr. John Bastek, Commandant (G-PCP-1), U.S. Coast Guard Headquarters, 2100 Second St., SW., Washington, DC 20593-0001. This notice is available on the Internet by performing a simple search for the docket number at http://dms.dot.gov.

FOR FURTHER INFORMATION CONTACT: Mr. John Bastek, NMSAC Executive Secretary, telephone 202-267-2722, fax 202-267-4130.

SUPPLEMENTARY INFORMATION:

Procedural

The September 13th teleconference meeting is open to the public. Please note that the meeting may close early if all business is finished. Security requires that any member of the public who wishes to attend the public session at Coast Guard Headquarters provide his or her name and date of birth no later than 4 p.m. EDT, Thursday, September 7, 2006, to Mr. John Bastek e-mail at Jbastek@comdt.uscg.mil, or via phone at (202) 267-2722. Photo identification will be required for entry into the building. Individuals wishing to attend the meeting via the teleconference call in number shall contact Mr. Bastek for the teleconference information.

If you would like a copy of your written material distributed to each member of the Committee in advance of the meeting, please submit 25 copies of the material to Mr. John Bastek no later than September 7, 2006.

Notice of the meeting is given under the Federal Advisory Committee Act, 5 U.S.C. App. 2 (Pub. L. 92-463, 86 Stat.770).

Agenda of September 13, 2006, Teleconference

The agenda includes the following:

(1) Draft of Report to Congress.

Information on Services for Individuals With Disabilities

For information on facilities or services for individuals with disabilities, or to request special assistance at the meetings, contact Mr. John Bastek as soon as possible at the address or phone number listed under the For Further Information Contact section.

Dated: August 28, 2006.
F.J. Sturm,
Captain, U.S. Coast Guard, Deputy Director Inspections & Compliance.

[FR Doc. E6-14584 Filed 8-31-06; 8:45 am]

BILLING CODE 4910-15-P